DEPARTMENT OF HEALTH AND HUMAN SERVICES

Administration for Children and Families

Proposed Information Collection Activity; Medical Health Assessment Form and Public Health Investigation Forms, Tuberculosis and Non-Tuberculosis Illness (Office of Management and Budget 0970-0509); Correction

AGENCY: Office of Refugee Resettlement, Administration for Children and Families, United States Department of Health and Human Services.

ACTION: Request for public comments; correction.

SUMMARY: The Administration for Children and Families (ACF) published a document in the Federal Register of June 1, 2023, concerning request for comments on a 3-year extension of the Mental Health Assessment Form (formerly the Health Assessment Form) and Public Health Investigation Forms, Active Tuberculosis (TB) and Non-TB Illness (Office of Management and Budget (OMB) #0970-0509, expiration December 31, 2023). The published notice contained an incorrect title and a typo in the Description section.

SUPPLEMENTARY INFORMATION:

Correction

In the Federal Register of June 1, 2023, in FR Doc. 2023-11627, the following corrections apply:

1. On page 35879, in the third column, the correct title is: Proposed Information Collection Activity; Mental Health Assessment Form and Public Health Investigation Forms, Tuberculosis and Non-Tuberculosis Illness (Office of Management and Budget 0970-0509).

2. On page 35880 in the third column, there is a typo in the second sentence. The sentence should read: In addition, ORR has written an instructional letter for the Mental Health Assessment Form to explain the purpose of the form and provide general guidance on completion to healthcare providers.

DATES: Comments due on the information collection proposed in 88 FR 35879 on or before July 31, 2023.

ADDRESSES: You can obtain copies of the proposed collection of information and submit comments by emailing infocollection@acf.hhs.gov. Identify all requests by the title of the information collection.

Mary B. Jones,
ACF/OPRE Certifying Officer.

[FR Doc. 2023-12334 Filed 6-8-23; 8:45 am]

BILLING CODE 4184-45-P